NUCLEAR REGULATORY COMMISSION

[NRC-2011-0291]

Receipt of Request for Action

Notice is hereby given that by petition dated April 13, 2011, Paul Gunter and Kevin Kamps of Beyond Nuclear requested that the U.S. Nuclear Regulatory Commission (NRC) take action to immediately suspend the operating licenses of General Electric boiling water reactors with Mark I containments. More than 8,000 copetitioners submitted emails stating that they shared the concerns raised by Beyond Nuclear. Beyond Nuclear and the copetitioners will be referred to collectively as the “petitioners.”

In their petition, the petitioners request:

enforcement action to ensure that the public health and safety is not unduly being jeopardized by the unsafe operations at twenty one (21) General Electric [GE] Boiling Water Reactors [BWRs] Mark I units that rely upon a fundamentally flawed combination of free standing steel primary containments for their pressure suppression containment system, the installation of the “hardened vent system,” or not, and an additional three (3) Mark I units for a total of twenty four (24) units which rely upon used radioactive fuel storage pools (also known as “spent fuel pools” elevated to the top [of] the reactor building outside and above the rated containment structure without safety-related back-up electric power (Class 1 E) systems to cool high-density storage of thermally hot and highly radioactive nuclear waste in the event of loss of grid power.

This request is being reviewed pursuant to the NRC's regulation at Title 10 of the Code of Federal Regulations (10 CFR) 2.206. The request has been referred to the Director of the Office of Nuclear Reactor Regulation. As provided by 10 CFR 2.206, appropriate action will be taken on this petition within a reasonable time. An NRC Petition Review Board (PRB) held public meetings with the petitioners on June 8, 2011, and October 7, 2011, during which the petitioners supplemented and clarified the requested actions and bases for their petition. The results of those discussions were considered in the PRB's determination regarding the petitioners' request for immediate action and in establishing the schedule for the review of the petition.

By letter dated December 13, 2011, the Director of the NRC's Office of Nuclear Reactor Regulation denied the petitioners' request to immediately suspend the operating licenses of General Electric boiling water reactors with Mark I containments. Although the Director denied the petitioners' request for immediate action, the Director nonetheless accepted their petition for review in part. The Director's findings regarding each of the requested actions and bases for the petition can be found in the NRC's Agencywide Documents Access and Management System (ADAMS) at Accession No. ML11339A078, “Table Summarizing Each Issue for 2.206 Criteria,” included in his December 13, 2011 letter. ADAMS may be accessed through the NRC Library at http://www.nrc.gov/reading-rm/adams.html.

Copies of the petition and the transcripts from the June 8, 2011 and October 7, 2011 public meetings can be found in ADAMS at Accession Nos. ML11104A058 (petition), ML11167A114 (June 8, 2011 meeting) and ML11292A162 (October 7, 2011 meeting). Copies of these documents are also available for inspection at the Commission's Public Document Room (PDR). The PDR is located at One White Flint North, Public File Area O1 F21, 11555 Rockville Pike (first floor), Rockville, Maryland.

Any additional publicly available documents created or received at the NRC will be accessible electronically through ADAMS. Persons who do not have access to ADAMS or who have difficulty accessing documents in ADAMS should contact the NRC's PDR Reference staff by telephone at 1-(800) 397-4209 or (301) 415-4737, or by email to PDR.Resource@nrc.gov.

Dated at Rockville, Maryland, this 27th day of December 2011.
For the Nuclear Regulatory Commission.
Bruce A. Boger,
Deputy Director, Office of Nuclear Reactor Regulation.

[FR Doc. 2011-33649 Filed 12-30-11; 8:45 am]

BILLING CODE 7590-01-P